DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 20, 2003.

Interested persons are invited to submit written comments regarding the subject matter of the investigations to the Director, Division of Trade Adjustment Assistance, at the address shown, below, not later than October 20, 2003.

The petitions filed in this case are available for inspection at the Office of the Director, Division of Trade Adjustment Assistance, Employment and Training Administration, U.S. Department of Labor, Room C-5311, 200 Constitution Avenue, NW, Washington, DC 20210.

Signed at Washington, DC, this 22nd day of September 2003.
Timothy Sullivan,
Director, Division of Trade Adjustment Assistance.

Appendix
[Petitions instituted between 09/02/2003 and 09/05/2003]
TA-W | Subject firm (petitioners) | Location | Date of institution | Date of petition
52,708 | Carolina Pad and paper Co. (Co.) | Charlotte, NC | 09/02/2003 | 08/25/2003
52,709 | Kana Software (Wkrs) | Menlo Park, CA | 09/02/2003 | 08/27/2003
52,710 | Conso International Corp. (Comp) | Union, SC | 09/02/2003 | 08/29/2003
52,711 | AT&T Wireless Services Inc. (State) | Livermore, CA | 09/02/2003 | 08/29/2003
52,712 | Maytag Appliances (Comp) | Amana, IA | 09/02/2003 | 08/25/2003
52,713 | Gilbert Brothers Fisheries (Comp) | Kodiak, AK | 09/02/2003 | 08/28/2003
52,714 | Fishing Vessel (F/V) Rimrock (Comp) | Kodiak, AK | 09/02/2003 | 08/28/2003
52,715 | Tingley Rubber (Union) | So. Plainfield, NJ | 09/02/2003 | 08/04/2003
52,716 | Uniprise (Wkrs) | Dayton, OH | 09/02/2003 | 08/29/2003
52,717 | PSC Metals Inc. (Comp) | Cleveland, OH | 09/02/2003 | 08/19/2003
52,718 | I.T.W. Foils (Wkrs) | East Brunswick, NJ | 09/02/2003 | 08/21/2003
52,719 | Padgett Furniture Mfg. Cop., Inc. (Comp) | Calhoun, TN | 09/02/2003 | 08/25/2003
52,720 | Ampenol T&M Antennas (Wkrs) | Vernon Hills, IL | 09/02/2003 | 08/28/2003
52,721 | Cascade Fibers Company (Wkrs) | Sanford, NC | 09/02/2003 | 08/28/2003
52,722 | Conso International Corp (Comp) | Union, SC | 09/02/2003 | 08/29/2003
52,723 | W-Phone, Inc. (state) | Highlands Ranch, CO | 09/02/2003 | 08/28/2003
52,724 | F/V Ruthie (Comp) | Petersburg, AK | 09/03/2003 | 08/20/2003
52,725 | Fishing Vessel (F/V) Bad Betty (Comp) | Homer, AK | 09/03/2003 | 08/19/2003
52,726 | Brad Aga Setnet Operation (Comp) | Larsen Bay, AK | 09/03/2003 | 08/21/2003
52,727 | Pryor Fish Camp (Comp) | Kodiak, AK | 09/03/2003 | 08/20/2003
52,728 | TRW Automotive (MN) | Rushford, MN | 09/03/2003 | 08/25/2003
52,729 | TRW Automotive Electronics (MN) | Winona, MN | 09/03/2003 | 08/25/2003
52,730 | Berwick Weaving, Inc. (Wkrs) | Berwick, PA | 09/03/2003 | 08/15/2003
52,731 | Heraeus Quartztech, Inc. (NJ) | Fairfield, NJ | 09/03/2003 | 08/29/2003
52,732 | Agere Systems (IBEW) | Reading, PA | 09/03/2003 | 08/15/2003
52,733 | Implementation Strategies, Inc. (Comp) | Brooklyn, NY | 09/03/2003 | 08/26/2003
52,734 | Bend Tec, Inc. (MN) | Duluth, MN | 09/03/2003 | 08/22/2003
52,735 | Guardian Industries Corporation (Comp) | Lewistown, PA | 09/03/2003 | 08/21/2003
52,736 | Lala Ellen Knitting (Comp) | Fort Payne, AL | 09/03/2003 | 08/21/2003
52,737 | TriQuint Optoelectronics (Comp) | Breinigsville, PA | 09/03/2003 | 08/18/2003
52,738 | Vermont Tubbs (Comp) | Brandon, VT | 09/03/2003 | 08/19/2003
52,739 | Springs Industries (Comp) | Gainesville, GA | 09/03/2003 | 08/26/2003
52,740 | HV Wood Products, Inc. (Comp) | Hughesville, PA | 09/03/2003 | 08/28/2003
52,741 | Ettco Tool Co. (IAMAW) | York, PA | 09/03/2003 | 08/21/2003
52,742 | Fishercast, Inc. (Comp) | Watertown, NY | 09/03/2003 | 08/17/2003
52,743 | Hewlett Packard (ID) | Boise, ID | 09/03/2003 | 08/27/2003
52,744 | Rockwell Automation (Comp) | Dublin, GA | 09/03/2003 | 08/26/2003
52,745 | Erie Power Technologies, Inc. (Wkrs) | Erie, PA | 09/03/2003 | 08/28/2003
52,746 | Plano Molding Company (Comp) | Plano, IL | 09/03/2003 | 08/26/2003
52,747 | Sligh Furniture Company (Comp) | Holland, MI | 09/03/2003 | 08/26/2003
52,748 | Honeywell Industry Solutions (Wkrs) | Phoenix, AZ | 09/03/2003 | 08/28/2003
52,749 | Akin Industries (Comp) | Monticello, AR | 09/03/2003 | 08/25/2003
52,750 | Penn Union Corporation (Wkrs) | Edinboro, PA | 09/03/2003 | 07/20/2003
52,751 | Cliffs Mining Services Company (Wkrs) | Ishpeming, MI | 09/03/2003 | 08/19/2003
52,752 | TRW (Comp) | Jackson, MI | 09/03/2003 | 08/27/2003
52,753 | Metal Powder Products Company (Comp) | Coldwater, MI | 09/03/2003 | 08/08/2003
52,754 | ACS Industries, Inc. (Comp) | Woonsocket, RI | 09/04/2003 | 08/20/2003
52,755 | Fishing Vessel (F/V) Kaja marie (Comp) | Camano Island, WA | 09/04/2003 | 08/31/2003
52,756 | West Point Fisheries (Comp) | Bend, Or | 09/04/2003 | 08/27/2003
52,757 | State of Alaska Commission Fisheries (Comp) | Soldotna, AK | 09/04/2003 | 08/29/2003
52,758 | Bear Garden Fisheries (Comp) | Kodiak, AK | 09/04/2003 | 08/31/2003
52,759 | F/V K2 (Comp) | Cordova, AK | 09/04/2003 | 08/25/2003
52,760 | Fishing Vessel (F/V) Freedom (Comp) | Mt. Vernon, WA | 09/04/2003 | 08/21/2003
52,761 | Fishing Vessel (F/V) Leopard (Comp) | Kenai, AK | 09/04/2003 | 09/02/2003
52,762 | TT Group, Inc. (Comp) | Aurora, MO | 09/04/2003 | 08/29/2003
52,763 | Philadelphia Chewing Gum Corporation (Comp) | Havertown, PA | 09/04/2003 | 08/22/2003
52,764 | Bimex Industries (AFLCIO) | Wales, WI | 09/04/2003 | 09/03/2003
52,765 | Micro Motion, Inc. (Comp) | Boulder, CO | 09/04/2003 | 09/03/2003
52,766 | American Suessen Corp. (NC) | Charlotte, NC | 09/04/2003 | 08/28/2003
52,767 | Karen Manufacturing (NJ) | Elizabeth, NJ | 09/04/2003 | 08/04/2003
52,768 | Titan Plastics Group (Comp) | Portage, MI | 09/04/2003 | 08/27/2003
52,769 | American Fiber and Finishing, Inc. (Comp) | Newberry, SC | 09/05/2003 | 09/05/2003
52,770 | Tower Mills, Inc. (Comp) | Burlington, NC | 09/05/2003 | 08/27/2003
52,771 | Central-PA Distribution and Warehouse (Wkrs) | Reedsville, PA | 09/05/2003 | 09/04/2003
52,772 | Baltimore Marine Ind. (IAMAW) | Baltimore, MD | 09/05/2003 | 09/05/2003
52,773 | Lebanite Corporation (WCIW) | Lebanon, OR | 09/05/2003 | 09/03/2003
52,774 | Weyersaeuser Company (Wkrs) | N. Bend, OR | 09/05/2003 | 09/03/2003

[FR Doc. 03-25705 Filed 10-9-03; 8:45 am]

BILLING CODE 4510-30-M